ENVIRONMENTAL PROTECTION AGENCY

[FRL OP-OFA-161]

Environmental Impact Statements; Notice of Availability

Responsible Agency: Office of Federal Activities, General Information 202-564-5632 or https://www.epa.gov/nepa.

Weekly receipt of Environmental Impact Statements (EIS)

Filed December 27, 2024 10 a.m. EST Through January 6, 2025 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20250000, Final, NMFS, MA, ADOPTION—SouthCoast Wind Project, Contact: Karolyn Lock 301-427-8401.

The National Marine Fisheries Service (NMFS) has adopted the Bureau of Ocean Energy Management's Final EIS No. 20240213 filed 11/08/2024 with the Environmental Protection Agency. The NMFS was a cooperating agency on this project. Therefore, republication of the document is not necessary under Section 1506.3(b)(2) of the CEQ regulations.

EIS No. 20250001, Final, NMFS, MD, ADOPTION—Maryland Offshore Wind, Contact: Karolyn Lock 301-427-8401.

The National Marine Fisheries Service (NMFS) has adopted the Bureau of Ocean Energy Management's Final EIS No. 20240137 filed 07/26/2024 with the Environmental Protection Agency. The NMFS was a cooperating agency on this project. Therefore, republication of the document is not necessary under Section 1506.3(b)(2) of the CEQ regulations.

EIS No. 20250002, Draft, FHWA, HI, Honoapi'ilani Highway Improvements Project, Comment Period Ends: 02/24/2025, Contact: Paul La Farga 808-541-2704.

EIS No. 20250003, Final, DHS, IBWC, GSA, TX, Proposed Modernization of the Bridge of the Americas Land Port of Entry in El Paso Texas, Review Period Ends: 02/10/2025, Contact: Karla R. Carmichael 817-996-9475.

EIS No. 20250004, Draft, USACE, MD, Sparrows Point Container Terminal, Comment Period Ends: 03/21/2025, Contact: Maria N. Teresi 410-962-4252.

EIS No. 20250005, Draft, BLM, OR, Bridge Creek Area Allotment Management Plans, Comment Period Ends: 02/24/2025, Contact: Don Rotell 541-573-4400.

EIS No. 20250006, Final, USFWS, OR, Elliott State Research Forest Habitat Conservation Plan, Review Period Ends: 02/10/2025, Contact: Shauna Everett 503-231-6949.

EIS No. 20250007, Final, USFS, ID, Land Management Plan for the Nez Perce-Clearwater National Forests, Review Period Ends: 02/10/2025, Contact: Sara Daugherty 208-963-4206.

EIS No. 20250008, Draft, BLM, AZ, Ranegras Plains Energy Center Project, Comment Period Ends: 02/24/2025, Contact: Derek Eysenbach 602-417-9505.

EIS No. 20250009, Draft, NNSA, NM, Draft Site-Wide Environmental Impact Statement for Continued Operation of Los Alamos National Laboratory, Comment Period Ends: 03/11/2025, Contact: Stephen Hoffman 505-665-8980.

EIS No. 20250010, Draft, FTA, TX, Austin Light Rail Phase 1 Project, Comment Period Ends: 03/11/2025, Contact: Terence Plaskon 817-978-0573.

EIS No. 20250011, Final, TVA, MS, New Caledonia Gas Plant Project, Review Period Ends: 02/10/2025, Contact: Erica McLamb 423-751-8022.

EIS No. 20250012, Final, OSM, MT, Spring Creek Mine, Review Period Ends: 02/10/2025, Contact: Marcelo Calle 303-236-2929.

Amended Notice:

EIS No. 20240148, Draft, APHIS, PRO, Outbreak Response Activities for Highly Pathogenic Avian Influenza Outbreaks in Poultry in the United States and U.S. Territories, Comment Period Ends: 01/17/2025, Contact: Chelsea Bare 515-337-6128.

Revision to FR Notice published 08/16/2024; APHIS has reopened the comment period to end on 01/17/2025.

Dated: January 6, 2025.
Mark Austin,
Acting Director, NEPA Compliance Division, Office of Federal Activities.

[FR Doc. 2025-00363 Filed 1-8-25; 8:45 am]

BILLING CODE 6560-50-P